DEPARTMENT OF AGRICULTURE

Food Safety and Inspection Service

9 CFR Parts 381 and 500

[Docket No. FSIS-2012-0016]

National Advisory Committee on Meat and Poultry Inspection

AGENCY: Food Safety and Inspection Service, USDA.

ACTION: Notice of committee meeting.

The Food Safety and Inspection Service (FSIS) is announcing, pursuant to the Federal Advisory Committee Act, that the National Advisory Committee on Meat and Poultry Inspection (NACMPI) will hold a public meeting on Wednesday, March 21, 2012, to discuss the proposed rule on the Modernization of Poultry Slaughter Inspection published January 27, 2012. FSIS will provide an overview of the proposed rule, followed by open discussion and comments.

DATES: The Committee will hold a public meeting via Web conference on Wednesday, March 21, 2012, from 1:30 p.m. to 3:30 p.m. E.S.T.

ADDRESSES: The March 21, 2012, meeting will be held via Web conference. Information on accessing the Web conference will be posted on the FSIS Web site at http://www.fsis.usda.gov/News/Meetings_&_Events/. The meeting site will also be posted on the FSIS Web site above.

FSIS will finalize the agenda on or before the meeting and post it on the NACMPI Web site, http://www.fsis.usda.gov/about_fsis/nacmpi/index.asp.

All interested parties are welcome to attend the meeting and to submit written comments concerning the issue the Committee will discuss. FSIS welcomes comments through April 23, 2012, on this meeting. Comments may be submitted by any of the following methods:

Electronic mail: NACMPI@fsis.usda.gov.

Mail, including floppy disks or CD-ROMs: Send to National Advisory Committee on Meat and Poultry Inspection, USDA, FSIS, 14th & Independence Avenue SW., Room 1180-S, South Building, Washington, DC 20250.

Hand- or courier-delivered items: Deliver to Sally Fernandez at 14th & Independence Avenue SW., Room 1180-S, Washington, DC. To deliver these items, the building security guard must first call (202) 720-9113.

Facsimile: Send to Sally Fernandez, (202) 690-6519. All submissions received must include the Agency name and docket number FSIS-2012-0016.

FOR FURTHER INFORMATION CONTACT: Keith Payne for technical information at (202) 690-6522, or email keith.payne@fsis.usda.gov, and Sally Fernandez for meeting information at (202) 690-6524, Fax (202) 690-6519, or email sally.fernandez@fsis.usda.gov. Persons requiring a sign language interpreter or other special accommodations should notify Sally Fernandez at the numbers above or by email.

SUPPLEMENTARY INFORMATION: FSIS is announcing, pursuant to the Federal Advisory Committee Act, 5 U.S.C. App. 2, that the NACMPI will hold a public meeting on Wednesday, March 21, 2012, to discuss the proposed rule on the Modernization of Poultry Slaughter Inspection published January 27, 2012 (77 FR 4408).

Background

The NACMPI provides advice and recommendations to the Secretary of Agriculture pertaining to the Federal and State meat and poultry inspection programs, pursuant to sections 7(c), 24, 205, 301(a)(3), 301(a)(4), and 301(c) of the Federal Meat Inspection Act (21 U.S.C. 607(c), 624, 645, 661(a)(3), 661(a)(4), and 661(c)) and sections 5(a)(3), 5(a)(4), 5(c), 8(b), and 11(e) of the Poultry Products Inspection Act (21 U.S.C. 454(a)(3), 454(a)(4), 454(c), 457(b), and 460(e)).

The Administrator of FSIS is the chairperson of the Committee. Membership of the Committee is drawn from representatives of consumer groups; producers, processors, and marketers from the meat, poultry and egg product industries; State and local government officials; and academia. The current members of the NACMPI are: Patricia K. Buck, Center for Foodborne Illness Research and Prevention; Dr. Fur-Chi Chen, Tennessee State University; Brian R. Covington, Keystone Foods LLC; Dr. Catherine N. Cutter, Pennsylvania State University; Nancy J. Donley, STOP Foodborne Illness; Veneranda Gapud, Fieldale Farms Corporation; Dr. Craig Henry, Deloitte & Touche LLP; Dr. Cheryl D. Jones, Morehouse School of Medicine; Dr. Heidi Kassenborg, Minnesota Department of Agriculture; Sarah A. Klein, Center for Science in the Public Interest; Dr. Shelton E. Murinda, California State Polytechnic University; Dr. Edna Negrón, University of Puerto Rico; Robert G. Reinhard, Sara Lee Corporation; Dr. Craig E. Shultz, Pennsylvania Department of Agriculture; Stanley A. Stromberg, Oklahoma Department of Agriculture, Food, and Forestry; Dr. John D. Tilden, Michigan Department of Agriculture and Rural Development; Carol L. Tucker-Foreman, Consumer Federation of America; Steve E. Warshawer, Mesa Top Farm; Dr. J. Byron Williams, Mississippi State University; and Leonard W. Winchester, Public Health—Seattle & King County.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/. Options range from recalls to export information to regulations, directives, and notices. Customers can add or delete subscriptions themselves, and have the option to password protect their accounts.

USDA Nondiscrimination Statement

USDA prohibits discrimination in all its programs and activities on the basis of race, color, national origin, gender, religion, age, disability, political beliefs, sexual orientation, and marital or family status (Not all prohibited bases apply to all programs).

Persons with disabilities who require alternative means for communication of program information (Braille, large print, and audiotape) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Done at Washington, DC, on March 5, 2012.
Alfred V. Almanza,
Administrator.

[FR Doc. 2012-5656 Filed 3-5-12; 4:15 pm]

BILLING CODE 3410-DM-P